DEPARTMENT OF TRANSPORTATION

Coast Guard

33 CFR Part 117

[CGD08-02-042]

RIN 2115-AE47

Drawbridge Operation Regulation; Mississippi River, Dubuque, IA

AGENCY: Coast Guard, DOT.

ACTION: Final rule; correction.

SUMMARY: The Coast Guard published a final rule on December 27, 2002, temporarily changing the regulation governing the Illinois Central Railroad Drawbridge, Mile 579.9, Upper Mississippi River. The section number for the temporary change was incorrect. This document corrects the section number for the temporary change.

DATES: This correction is effective January 29, 2003.

FOR FURTHER INFORMATION CONTACT: Mr. Roger K. Wiebusch, Eighth Coast Guard District Bridge Branch, Bridge Administrator, (314) 539-3900, extension 2378.

SUPPLEMENTARY INFORMATION:

Background and Purpose

The Coast Guard published a temporary rule in the Federal Register on December 27, 2002 (67 FR 78975), adding section 117.T408.

Need for Correction

As published, the section number used in the regulatory text was incorrect.

Correction of Publication

In rule FR Doc. 02-32724 published on December 27, 2002 (67 FR 78975), make the following correction. On page 78977, in the first column, in lines 17 and 18, change “117.T408” to read “117.T410”

Dated: January 21, 2003.
J. R. Whitehead,
Captain, U.S. Coast Guard, Commander, Eighth Coast Guard District, Acting.

[FR Doc. 03-2060 Filed 1-28-03; 8:45 am]

BILLING CODE 4910-15-P